DEPARTMENT OF COMMERCE

International Trade Administration

[A-201-830]

Carbon and Certain Alloy Steel Wire Rod From Mexico: Rescission of Antidumping Duty Administrative Review; 2011-2012

AGENCY: Import Administration, International Trade Administration, Department of Commerce.

SUMMARY: The Department of Commerce (the “Department”) is rescinding its administrative review of the antidumping duty order on carbon and certain alloy steel wire rod (“wire rod”) from Mexico for the period October 1, 2011, through September 30, 2012.

DATES: Effective Date: January 14, 2013.

FOR FURTHER INFORMATION CONTACT: Patricia Tran at 202-482-1503 or Eric Greynolds at 202-482-6071, AD/CVD Operations, Office 8, Import Administration, International Trade Administration, U.S. Department of Commerce, 14th Street and Constitution Avenue NW., Washington, DC 20230.

SUPPLEMENTARY INFORMATION:

Background

On October 1, 2012, the Department published a notice of opportunity to request an administrative review of the antidumping duty order on wire rod from Mexico for the period of review, October 1, 2011, through September 30, 2012.¹ On October 31, 2012, Nucor Corporation (“Nucor”) requested that the Department conduct a review of Deacero S.A. de C.V. (“Deacero”), Ternium S.A, (including Ternium Mexico S.A. de C.V. and Hylsa S.A. de C.C.) (collectively “Ternium”), and ArcelorMittal Las Truchas, S.A. de C.V. and its affiliate, ArcelorMittal International America LLC (collectively “AMLT”), or any of their affiliates.² On December 3, 2012, in accordance with 19 CFR 351.221(c)(1)(i), the Department initiated an administrative review of the antidumping duty order on wire rod from Mexico covering Deacero, Ternium, and AMLT.³ On December 18, 2012, Nucor withdrew its request for an administrative review.⁴

¹ See Antidumping or Countervailing Duty Order, Finding, or Suspended Investigation; Opportunity To Request Administrative Review, 77 FR 59894 (October 1, 2012).

² See Letter from Nucor Corporation, “Request for Administrative Review” (October 31, 2012).

³ See Initiation of Antidumping and Countervailing Duty Administrative Reviews and Request for Revocation in Part, 77 FR 71575 (December 3, 2012).

⁴ See Letter from Nucor Corporation, “Withdrawal of Request for Administrative Review” (December 18, 2012).

Rescission of Review

Pursuant to 19 CFR 351.213(d)(1), the Secretary will rescind an administrative review, in whole or in part, if the parties that requested a review withdraw the request within 90 days of the date of publication of the notice initiating the review. Nucor withdrew its request for review within the 90-day deadline. No other interested party requested an administrative review of Deacero, Ternium, and AMLT, or any other entity. Therefore, in accordance with 19 CFR 351.213(d)(1), we are rescinding this review in its entirety.

Assessment

The Department will instruct U.S. Customs and Border Protection (“CBP”) to assess antidumping duties on all entries of wire rod from Mexico at rates equal to the cash deposit of estimated antidumping duties required at the time of entry or withdrawal from warehouse for consumption, in accordance with 19 CFR 351.212(c)(1)(i). The Department intends to issue appropriate assessment instructions to CBP 15 days after the date of publication of this notice of rescission of administrative review.

Notification Regarding Administrative Protective Order

This notice also serves as a final reminder to parties subject to administrative protective order (“APO”) of their responsibility concerning the disposition of proprietary information disclosed under an APO in accordance with 19 CPR 351.305(a)(3). Timely written notification of the return/destruction of APO materials or conversion to judicial protective order is hereby requested. Failure to comply with the regulations and terms of an APO is a sanctionable violation.

This notice is issued and published in accordance with sections 75l(a)(1) and 777(i)(1) of the Tariff Act of 1930, as amended, and 19 CPR 351.213(d)(4).

Dated: January 7, 2012.
Christian Marsh,
Deputy Assistant Secretary for Antidumping and Countervailing Duty Operations.

[FR Doc. 2013-00583 Filed 1-11-13; 8:45 am]

BILLING CODE 3510-DS-P